ENVIRONMENTAL PROTECTION AGENCY

[FRL-7924-6]

Science Advisory Board Staff Office; Notification of Upcoming Meeting of the Science Advisory Board, Homeland Security Advisory Committee (HSAC)

AGENCY: Environmental Protection Agency (EPA).

ACTION: Notice.

SUMMARY: The EPA Science Advisory Board (SAB) Staff Office announces a public meeting of the Homeland Security Advisory Committee (HSAC).

DATES: July 15, 2005. The Committee will hold a public face-to-face meeting on July 15, 2005 from 8:30 a.m.to 4 p.m. (EST).

ADDRESSES: The meeting of the Committee will be held at the SAB Conference Center located at the Woodies Building, 1025 F St. NW., Room 3705, Washington, DC, 20004.

FOR FURTHER INFORMATION CONTACT: Members of the public who wish to obtain more information regarding this meeting may contact Dr. Heidi Bethel, EPA Science Advisory Board Staff Office (1400F), U.S. Environmental Protection Agency, 1200 Pennsylvania Ave., NW., Washington, DC 20460; telephone/voice mail: (202) 343-9975; Fax (202) 233-0643 or via e-mail at bethel.heidi@epa.gov.

SUPPLEMENTARY INFORMATION:

Background: The Agency's overall mission with respect to homeland security is the protection of the nation against the environmental and health consequences of acts of terrorism. Five Mission Critical Areas (MCAs) are described in the U.S. EPA's 2004 Homeland Security Strategy (http://www.epa.gov/homelandsecurity/htm/ohs-sp.htm). EPA's roles within the MCAs include protection of critical infrastructure including water and wastewater industries; aiding other federal agencies in the protection of the chemical, food, transportation, and energy sectors; responding and recovering from any chemical, biological, radiological, or nuclear terrorist events; providing environmental expertise to support federal law enforcement activities; improving compliance monitoring and surveillance of imports in U.S. ports of entry; and synthesizing and communicating complex information related to human health and the environment. Additionally, EPA is committed to protecting its own personnel and infrastructure and conducting internal evaluations of the Agency's homeland security activities to determine if objectives are achieved.

Because of the cross-disciplinary nature of homeland security issues, multiple EPA offices are involved and their efforts are coordinated by the Administrator's Office of Homeland Security (OHS) (http://www.epa.gov/homelandsecurity/index.htm). Homeland security research at EPA is conducted by the Office of Research and Development's National Homeland Security Research Center (NHSRC) (http://www.epa.gov/nhsrc/). Research is conducted by the Agency in the following three areas: building cleanup through detection, containment, decontamination and disposal of terrorist agents and building materials; threat and consequence assessment, which involves the development of information systems and tools, risk estimates, and risk communication; and water infrastructure protection with an emphasis on water supply, treatment, and distribution infrastructures.

In response to a request from the Agency, the SAB has formed a subcommittee of the Chartered SAB to provide independent scientific and technical advice on matters pertaining to EPA's mission in protecting against the environmental and health consequences of terrorism. Background on this SAB Committee and its charge was provided in a Federal Register (FR) Notice published on July 30, 2003 (68 FR 44761-44762).

Pursuant to the Federal Advisory Committee Act, Public Law 92-463, Notice is hereby given that the SAB HSAC, a subcommittee of the Chartered SAB, will hold a public face-to-face meeting. The Committee will receive briefings from EPA offices regarding the Agency's role in homeland security and the scope of their research and program activities. EPA's technical contact is Ms. Lee Ann Byrd, EPA Office of Homeland Security (1109A), 1200 Pennsylvania Ave, NW., Washington, DC 20460; telephone/voice mail: (202) 564-0675/6978; or via e-mail at byrd.lee@epa.gov.

Availability of Meeting Materials: The meeting agenda and meeting materials will be posted on the SAB Web site at: http://www.epa.gov/science1/agendas.htm prior to the meeting.

Procedures for Providing Public Comment: It is the policy of the EPA Science Advisory Board (SAB) Staff Office to accept written public comments of any length, and to accommodate oral public comments whenever possible. Oral Comments: Requests to provide oral comments must be in writing (e-mail, fax or mail) and received by Dr. Bethel no later than five business days prior to the meeting in order to reserve time on the meeting agenda. For face-to-face meetings, opportunities for oral comment will usually be limited to no more than ten minutes per speaker or organization (unless otherwise stated). Speakers should bring at least 35 copies of their comments and presentation slides for distribution to the reviewers and public at the meeting. Written Comments: Although written comments are accepted until the date of the meeting (unless otherwise stated), written comments should be received in the SAB Staff Office at least five business days prior to the meeting date so that the comments may be made available to the committee for their consideration. Comments should be supplied to the DFO at the address/contact information noted above in the following formats: one hard copy with original signature and one electronic copy via e-mail (acceptable file format: Adobe Acrobat, WordPerfect, Word, or Rich Text files (in IBM-PC/Windows 98/2000/XP format).

Dated: June 9, 2004.
Vanessa T. Vu,
Director, EPA Science Advisory Board Staff Office.

[FR Doc. 05-11826 Filed 6-14-05; 8:45 am]

BILLING CODE 6560-50-P